FEDERAL COMMUNICATIONS COMMISSION

47 CFR Part 76

[CS Docket No. 97-80; FCC 98-116]

Commercial Availability of Navigation Devices

AGENCY: Federal Communications Commission.

ACTION: Final rule; announcement of effective date.

SUMMARY: In this document, the Commission announces that the Office of Management and Budget (OMB) approved the information collection 3060-0849 associated with Subpart P of Part 76. These revised rules will take effect as of the date of this notice. On July 15, 1998, the Commission published the summary document of the Report and Order, In the Matter of Commercial Availability of Navigation Devices, CS Docket No. 97-80; FCC 98-116, at 63 FR 38089.

DATES: Subpart B to part 76 was added on July 15, 2008 (63 FR 38094) with the effective date pending approval of information collection and reporting requirements by the Office of Management and Budget. This document announces the approval of those requirements effective November 19, 2008.

FOR FURTHER INFORMATION CONTACT: For additional information, please contact Cathy Williams at Cathy.Williams@fcc.gov or on (202) 418-2819.

SUPPLEMENTARY INFORMATION: This document announces that on October 15, 1998, OMB approved the information collection requirement(s) contained in Subpart P of Part 76 with the exception of section 76.1204 which became effective on July 1, 2000. The OMB Control Number is 3060-0849. Under 5 CFR 1320, an agency may not conduct or sponsor a collection of information unless it displays a current, valid OMB Control Number. No person shall be subject to any penalty for failing to comply with a collection of information subject to the Paperwork Reduction Act that does not display a valid OMB Control Number.

Federal Communications Commission.
Marlene H. Dortch,
Secretary.

[FR Doc. E8-27243 Filed 11-18-08; 8:45 am]

BILLING CODE 6712-01-P